DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On November 3, 2022, OFAC determined that the property and interests in property subject to U.S. jurisdiction of the following persons are blocked under the relevant sanctions authorities listed below.

Individuals

1. ARTEMOV, Viktor Sergiyovich, Chemin Des Princes 2, 1223, Cologny, Switzerland; Geneva, Switzerland; DOB 20 Oct 1975; alt. DOB 31 Dec 1975; POB Donetska Oblast, Ukraine; nationality Ukraine; Gender Male; Secondary sanctions risk: section 1(b) of Executive Order 13224, as amended by Executive Order 13886; Passport FN356229 (Ukraine) expires 17 Apr 2028 (individual) [SDGT] (Linked To: HIZBALLAH; Linked To: ISLAMIC REVOLUTIONARY GUARD CORPS (IRGC)-QODS FORCE).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, HIZBALLAH, a person whose property and interests in property are blocked pursuant to E.O. 13224.

Designated pursuant to section 1(a)(iii)(C) of E.O. 13224, as amended, for having materially assisted, sponsored, or provided financial, material, or technological support for, or goods or services to or in support of, ISLAMIC REVOLUTIONARY GUARD CORPS—QODS FORCE, a person whose property and interests in property are blocked pursuant to E.O. 13224.

2. EL ZEIN, Mohamed (a.k.a. AL-ZAYN, Muhammad; a.k.a. AL-ZAYN, Muhammad 'Ali), Beirut, Lebanon; Tehran, Iran; DOB 17 Feb 1987; nationality Lebanon; Gender Male; Secondary sanctions risk: section 1(b) of Executive Order 13224, as amended by Executive Order 13886; Passport 3090014 (Lebanon) expires 09 Mar 2020 (individual) [SDGT] (Linked To: HIZBALLAH; Linked To: ISLAMIC REVOLUTIONARY GUARD CORPS (IRGC)—QODS FORCE).

Designated pursuant to section 1(a)(iii)(C) of E.O. 13224, as amended, for having materially assisted, sponsored, or provided financial, material, or technological support for, or goods or services to or in support of, HIZBALLAH, a person whose property and interests in property are blocked pursuant to E.O. 13224.

Designated pursuant to section 1(a)(iii)(C) of E.O. 13224, as amended, for having materially assisted, sponsored, or provided financial, material, or technological support for, or goods or services to or in support of, ISLAMIC REVOLUTIONARY GUARD CORPS—QODS FORCE, a person whose property and interests in property are blocked pursuant to E.O. 13224.

3. NAFRIEH, Edman, Iran; DOB 24 Apr 1980; POB Tehran, Iran; nationality Iran; Gender Male; Secondary sanctions risk: section 1(b) of Executive Order 13224, as amended by Executive Order 13886; Passport H13722880 (Iran); alt. Passport RE0061544 (Saint Kitts and Nevis) expires 09 Jul 2027 (individual) [SDGT] (Linked To: HIZBALLAH; Linked To: ISLAMIC REVOLUTIONARY GUARD CORPS (IRGC)—QODS FORCE).

Designated pursuant to section 1(a)(iii)(C) of E.O. 13224, as amended, for having materially assisted, sponsored, or provided financial, material, or technological support for, or goods or services to or in support of, HIZBALLAH, a person whose property and interests in property are blocked pursuant to E.O. 13224.

Designated pursuant to section 1(a)(iii)(C) of E.O. 13224, as amended, for having materially assisted, sponsored, or provided financial, material, or technological support for, or goods or services to or in support of, ISLAMIC REVOLUTIONARY GUARD CORPS—QODS FORCE, a person whose property and interests in property are blocked pursuant to E.O. 13224.

4. RYABIKOVA, Tatiana (a.k.a. SURDON, Tatiana Ryabikova), France; DOB 24 Jan 1970; nationality France; Gender Female; Secondary sanctions risk: section 1(b) of Executive Order 13224, as amended by Executive Order 13886; Passport 04KH30561 (France) (individual) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

5. ZAHEDI, Rouzbeh (a.k.a. ZAHEDI, Roozbeh), Iran; DOB 01 Dec 1970; POB Iran; nationality Iran; Gender Male; Secondary sanctions risk: section 1(b) of Executive Order 13224, as amended by Executive Order 13886; (individual) [SDGT] (Linked To: HIZBALLAH; Linked To: ISLAMIC REVOLUTIONARY GUARD CORPS (IRGC)—QODS FORCE).

Designated pursuant to section 1(a)(iii)(C) of E.O. 13224, as amended, for having materially assisted, sponsored, or provided financial, material, or technological support for, or goods or services to or in support of, HIZBALLAH, a person whose property and interests in property are blocked pursuant to E.O. 13224.

Designated pursuant to section 1(a)(iii)(C) of E.O. 13224, as amended, for having materially assisted, sponsored, or provided financial, material, or technological support for, or goods or services to or in support of, ISLAMIC REVOLUTIONARY GUARD CORPS—QODS FORCE, a person whose property and interests in property are blocked pursuant to E.O. 13224.

6. FAZZONE, Gregorio, Switzerland; DOB 13 Nov 1959; alt. DOB 31 Dec 1959; nationality Switzerland; Gender Male; Secondary sanctions risk: section 1(b) of Executive Order 13224, as amended by Executive Order 13886; Passport X4818118 (Switzerland) expires 15 Jul 2020 (individual) [SDGT] (Linked To: AVA PETROLEUM SERVICES S.A.).

Designated pursuant to section 1(a)(iii)(E) of E.O. 13224, as amended, for being a leader or official of AVA PETROLEUM SERVICES S.A., a person whose property and interests in property are blocked pursuant to E.O. 13224, as amended.

Entities

1. AVA PETROLEUM SERVICES S.A., Rue Rodolphe-Toepffer 8, Geneva 1206, Switzerland; Organization Established Date 20 Jul 2009; Secondary sanctions risk: section 1(b) of Executive Order 13224, as amended by Executive Order 13886; Commercial Registry Number CH-660.1.612.009-4 (Switzerland) [SDGT] (Linked To: ARTEMOV, Viktor Sergiyovich).

Designated pursuant to section 1(a)(iii)(A) of E.O. 13224, as amended, for being owned, controlled, or directed by, directly or indirectly, VIKTOR SERGIYOVICH ARTEMOV, a person whose property and interests in property are blocked pursuant to E.O. 13224, as amended.

2. BLUE BERRI SHIPPING INC., Trust Company Complex, Ajeltake Road, Ajeltake Island, Majuro MH96960, Marshall Islands; Secondary sanctions risk: section 1(b) of Executive Order 13224, as amended by Executive Order 13886; Organization Established Date 04 Mar 2021; Business Number 108160 (Marshall Islands) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

3. CENTRUM MARITIME PTE. LTD., 10 Anson Road, 20-05 International Plaza, 079903, Singapore; Organization Established Date 12 Nov 2020; Secondary sanctions risk: section 1(b) of Executive Order 13224, as amended by Executive Order 13886; Commercial Registry Number 202036616G (Singapore) [SDGT] (Linked To: ARTEMOV, Viktor Sergiyovich).

Designated pursuant to section 1(a)(iii)(A) of E.O. 13224, as amended, for being owned, controlled, or directed by, directly or indirectly, VIKTOR SERGIYOVICH ARTEMOV, a person whose property and interests in property are blocked pursuant to E.O. 13224, as amended.

4. ENERGOTRADE PLUS DMCC, Unit No: 3O-01-BA1417, Jewellery & Gemplex 3, Plot No: DMCC-PH2-J&GPlexS, Jewellery & Gemplex, Dubai, United Arab Emirates; Organization Established Date 31 Mar 2021; Secondary sanctions risk: section 1(b) of Executive Order 13224, as amended by Executive Order 13886; Company Number 11650050 (United Arab Emirates); Business Number DMCC-807753 (United Arab Emirates); Business Registration Number DMCC190145 (United Arab Emirates) [SDGT] (Linked To: ARTEMOV, Viktor Sergiyovich).

Designated pursuant to section 1(a)(iii)(A) of E.O. 13224, as amended, for being owned, controlled, or directed by, directly or indirectly, VIKTOR SERGIYOVICH ARTEMOV, a person whose property and interests in property are blocked pursuant to E.O. 13224, as amended.

5. EXPANSE SHIP MANAGEMENT LIMITED, Office 131, 11th Floor, Ankara Caddesi 145, Kordonboyu Mahallesi, Kartal, Istanbul, Turkey; Trust Company Complex, Ajeltake Road, Ajeltake Island, Majuro MH96960, Marshall Islands; Secondary sanctions risk: section 1(b) of Executive Order 13224, as amended by Executive Order 13886; Organization Established Date 2021; Organization Type: Sea and coastal freight water transport [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

6. GILDA TAR KARVAN INTERNATIONAL COMPANY, No 9 6th Alley, Tehran 1514643411, Iran; No. 7 Alvand Street, Argentine Sqr., Tehran 19666, Iran; Secondary sanctions risk: section 1(b) of Executive Order 13224, as amended by Executive Order 13886; National ID No. 10103735379 (Iran) [SDGT] (Linked To: NAFRIEH, Edman).

Designated pursuant to section 1(a)(iii)(A) of E.O. 13224, as amended, for being owned, controlled, or directed by, directly or indirectly, EDMAN NAFRIEH, a person whose property and interests in property are blocked pursuant to E.O. 13224, as amended.

7. HARBOUR SHIP MANAGEMENT LIMITED, Trust Company Complex, Ajeltake Road, Ajeltake Island, Majuro MH96960, Marshall Islands; Ap 22, Carrer de Pallars 193, Barcelona 08018, Spain; Secondary sanctions risk: section 1(b) of Executive Order 13224, as amended by Executive Order 13886; Identification Number IMO 6235071 [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

8. INTREPID NAVIGATORS S.A., Trust Company Complex, Ajeltake Road, Ajeltake Island, Majuro MH96960, Marshall Islands; Secondary sanctions risk: section 1(b) of Executive Order 13224, as amended by Executive Order 13886; Organization Established Date 15 Feb 2022; Business Number 113129 (Marshall Islands) [SDGT] (Linked To: ARTEMOV, Viktor Sergiyovich).

Designated pursuant to section 1(a)(iii)(A) of E.O. 13224, as amended, for being owned, controlled, or directed by, directly or indirectly, VIKTOR SERGIYOVICH ARTEMOV, a person whose property and interests in property are blocked pursuant to E.O. 13224, as amended.

9. MONUMONT SHIP MANAGEMENT LIMITED, Trust Company Complex, Ajeltake Road, Ajeltake Island, Majuro MH96960, Marshall Islands; Daire 131, Kat 11, 1st Marina B Blok, Ankara Caddesi 147, Kordonboyu Mahallesi, Kartal, Istanbul, Turkey; Kat 7, Rumeli Plaza, Rumeli Caddesi, Mesrutiyet Mahallesi, Nisantasi, Sisil, Istanbul, Turkey; Secondary sanctions risk: section 1(b) of Executive Order 13224, as amended by Executive Order 13886; Organization Established Date 2021; Identification Number IMO 6207825 [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

10. PETRO NAVIERO PTE. LTD., 20 Upper Circular Road, 02-10/12 The Riverwalk, 058416, Singapore; Secondary sanctions risk: section 1(b) of Executive Order 13224, as amended by Executive Order 13886; Organization Established Date 31 Mar 2021; Commercial Registry Number 202111423D (Singapore) [SDGT] (Linked To: ARTEMOV, Viktor Sergiyovich).

Designated pursuant to section 1(a)(iii)(A) of E.O. 13224, as amended, for being owned, controlled, or directed by, directly or indirectly, VIKTOR SERGIYOVICH ARTEMOV, a person whose property and interests in property are blocked pursuant to E.O. 13224, as amended.

11. RISING TIDE SHIPPING CORP., Trust Company Complex, Ajeltake Road, Ajeltake Island, Majuro MH96960, Marshall Islands; Secondary sanctions risk: section 1(b) of Executive Order 13224, as amended by Executive Order 13886; Organization Established Date 22 Mar 2022; Business Number 113667 (Marshall Islands) [SDGT] (Linked To: ARTEMOV, Viktor Sergiyovich).

Designated pursuant to section 1(a)(iii)(A) of E.O. 13224, as amended, for being owned, controlled, or directed by, directly or indirectly, VIKTOR SERGIYOVICH ARTEMOV, a person whose property and interests in property are blocked pursuant to E.O. 13224, as amended.

12. AL HAKEEL AL ASWAD OIL TRADING LLC, Unit No: 1701 Ontario Tower, Business Bay, Dubai, United Arab Emirates; Secondary sanctions risk: section 1(b) of Executive Order 13224, as amended by Executive Order 13886; Organization Established Date 19 Sep 2016; Organization Type: Extraction of crude petroleum [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

13. AZUL VISTA SHIPPING CORPORATION, Trust Company Complex, Ajeltake Road, Ajeltake Island, Majuro MH96960, Marshall Islands; Secondary sanctions risk: section 1(b) of Executive Order 13224, as amended by Executive Order 13886; Commercial Registry Number 107790 (Marshall Islands) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

14. PONTUS NAVIGATION CORP., Trust Company Complex, Ajeltake Road, Ajeltake Island, Majuro MH96960, Marshall Islands; Secondary sanctions risk: section 1(b) of Executive Order 13224, as amended by Executive Order 13886; Commercial Registry Number 113562 (Marshall Islands) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

15. TECHNOLOGY BRIGHT INTERNATIONAL LIMITED, Trust Company Complex, Ajeltake Road, Ajeltake Island, Majuro MH96960, Marshall Islands; Secondary sanctions risk: section 1(b) of Executive Order 13224, as amended by Executive Order 13886; Commercial Registry Number 107346 (Marshall Islands) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

16. TRITON NAVIGATION CORP., Trust Company Complex, Ajeltake Road, Ajeltake Island, Majuro MH96960, Marshall Islands; Secondary sanctions risk: section 1(b) of Executive Order 13224, as amended by Executive Order 13886; Commercial Registry Number 113453 (Marshall Islands) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

17. VISTA CLARA SHIPPING CORPORATION, Trust Company Complex, Ajeltake Road, Ajeltake Island, Majuro MH96960, Marshall Islands; Secondary sanctions risk: section 1(b) of Executive Order 13224, as amended by Executive Order 13886; Organization Established Date 22 Apr 2021; Commercial Registry Number 108904 (Marshall Islands) [SDGT] (Linked To: ARTEMOV, Viktor Sergiyovich).

Designated pursuant to section 1(a)(iii)(C) of E.O. 13224, as amended, for having materially assisted, sponsored, or provided financial, material, or technological support for, or goods or services to or in support of, VIKTOR SERGIYOVICH ARTEMOV, a person whose property and interests in property are blocked pursuant to E.O. 13224, as amended.

On November 3, 2022, OFAC also identified the following vessels as property in which a blocked person has an interest under the relevant sanctions authority listed below:

Vessels

1. B LUMINOSA Oil Products Tanker Djibouti flag; Secondary sanctions risk: section 1(b) of Executive Order 13224, as amended by Executive Order 13886; Vessel Registration Identification IMO 9256016; MMSI 621819076 (vessel) [SDGT] (Linked To: HARBOUR SHIP MANAGEMENT LIMITED).

Identified pursuant to E.O. 13224, as amended, as property in which HARBOUR SHIP MANAGEMENT LIMITED, a person whose property and interests in property are blocked pursuant to E.O. 13224, as amended, has an interest.

2. BLUEFINS Oil Products Tanker Djibouti flag; Secondary sanctions risk: section 1(b) of Executive Order 13224, as amended by Executive Order 13886; Vessel Registration Identification IMO 9221657; MMSI 621819069 (vessel) [SDGT] (Linked To: HARBOUR SHIP MANAGEMENT LIMITED).

Identified pursuant to E.O. 13224, as amended, as property in which HARBOUR SHIP MANAGEMENT LIMITED, a person whose property and interests in property are blocked pursuant to E.O. 13224, as amended, has an interest.

3. BOCEANICA Oil Products Tanker Djibouti flag; Former Vessel Flag Palau; Secondary sanctions risk: section 1(b) of Executive Order 13224, as amended by Executive Order 13886; Vessel Registration Identification IMO 9267132; MMSI 621819060 (vessel) [SDGT] (Linked To: ARTEMOV, Viktor Sergiyovich).

Identified pursuant to E.O. 13224, as amended, as property in which VIKTOR SERGIYOVICH ARTEMOV, a person whose property and interests in property are blocked pursuant to E.O. 13224, as amended, has an interest.

4. BUENO Oil Products Tanker Djibouti flag; Secondary sanctions risk: section 1(b) of Executive Order 13224, as amended by Executive Order 13886; Vessel Registration Identification IMO 9282443; MMSI 621819070 (vessel) [SDGT] (Linked To: HARBOUR SHIP MANAGEMENT LIMITED).

Identified pursuant to E.O. 13224, as amended, as property in which HARBOUR SHIP MANAGEMENT LIMITED, a person whose property and interests in property are blocked pursuant to E.O. 13224, as amended, has an interest.

5. RAIN DROP Crude Oil Tanker Cook Islands flag; Secondary sanctions risk: section 1(b) of Executive Order 13224, as amended by Executive Order 13886; Vessel Registration Identification IMO 9233208; MMSI 518998461 (vessel) [SDGT] (Linked To: BLUE BERRI SHIPPING INC.).

Identified pursuant to E.O. 13224, as amended, as property in which BLUE BERRI SHIPPING INC., a person whose property and interests in property are blocked pursuant to E.O. 13224, as amended, has an interest.

6. ZEPHYR I (f.k.a. ZHEN I) Crude Oil Tanker Panama flag; Former Vessel Flag Palau; Secondary sanctions risk: section 1(b) of Executive Order 13224, as amended by Executive Order 13886; Vessel Registration Identification IMO 9255880; MMSI 511100663 (vessel) [SDGT] (Linked To: ARTEMOV, Viktor Sergiyovich).

Identified pursuant to E.O. 13224, as amended, as property in which VIKTOR SERGIYOVICH ARTEMOV, a person whose property and interests in property are blocked pursuant to E.O. 13224, as amended, has an interest.

7. ADISA Oil Products Tanker Panama flag; Secondary sanctions risk: section 1(b) of Executive Order 13224, as amended by Executive Order 13886; Vessel Registration Identification IMO 9304667; MMSI 353024000 (vessel) [SDGT] (Linked To: TRITON NAVIGATION CORP.).

Identified pursuant to E.O. 13224, as amended, as property in which TRITON NAVIGATION CORP., a person whose property and interests in property are blocked pursuant to E.O. 13224, as amended, has an interest.

8. JULIA A (f.k.a. AZUL) Oil Products Tanker Liberia flag; Former Vessel Flag Palau; Secondary sanctions risk: section 1(b) of Executive Order 13224, as amended by Executive Order 13886; Vessel Registration Identification IMO 9236353; MMSI 511100435 (vessel) [SDGT] (Linked To: AZUL VISTA SHIPPING CORPORATION).

Identified pursuant to E.O. 13224, as amended, as property in which AZUL VISTA SHIPPING CORPORATION, a person whose property and interests in property are blocked pursuant to E.O. 13224, as amended, has an interest.

9. LARA I (f.k.a. CLARA) Oil Products Tanker Liberia flag; Former Vessel Flag Palau; Secondary sanctions risk: section 1(b) of Executive Order 13224, as amended by Executive Order 13886; Vessel Registration Identification IMO 9231767; MMSI 511100481 (vessel) [SDGT] (Linked To: VISTA CLARA SHIPPING CORPORATION).

Identified pursuant to E.O. 13224, as amended, as property in which VISTA CLARA SHIPPING CORPORATION, a person whose property and interests in property are blocked pursuant to E.O. 13224, as amended, has an interest.

10. NOLAN (f.k.a. OSLO) Oil Products Tanker Panama flag; Secondary sanctions risk: section 1(b) of Executive Order 13224, as amended by Executive Order 13886; Vessel Registration Identification IMO 9179701; MMSI 354798000 (vessel) [SDGT] (Linked To: PONTUS NAVIGATION CORP.).

Identified pursuant to E.O. 13224, as amended, as property in which PONTUS NAVIGATION CORP., a person whose property and interests in property are blocked pursuant to E.O. 13224, as amended, has an interest.

11. YOUNG YONG Oil Products Tanker Djibouti flag; Secondary sanctions risk: section 1(b) of Executive Order 13224, as amended by Executive Order 13886; Vessel Registration Identification IMO 9194127; MMSI 621819067 (vessel) [SDGT] (Linked To: TECHNOLOGY BRIGHT INTERNATIONAL LIMITED).

Identified pursuant to E.O. 13224, as amended, as property in which TECHNOLOGY BRIGHT INTERNATIONAL LIMITED, a person whose property and interests in property are blocked pursuant to E.O. 13224, as amended, has an interest.

Dated: November 3, 2022.
Andrea Gacki,
Director, Office of Foreign Assets Control, U.S. Department of the Treasury.

[FR Doc. 2022-24447 Filed 11-8-22; 8:45 am]

BILLING CODE 4810-AL-P